DEPARTMENT OF TRANSPORTATION

Pipeline and Hazardous Materials Safety Administration

Office of Hazardous Materials Safety; Hazardous Materials: Delayed Applications

AGENCY: Pipeline and Hazardous Materials Safety Administration (PHMSA), DOT.

ACTION: List of applications delayed more than 180 days.

SUMMARY: In accordance with the requirements of 49 U.S.C. 5117(c), PHMSA is publishing the following list of special permit applications that have been in process for 180 days or more. The reason(s) for delay and the expected completion date for action on each application is provided in association with each identified application.

FOR FURTHER INFORMATION CONTACT: Ryan Paquet, Director, Office of Hazardous Materials Special Permits and Approvals, Pipeline and Hazardous Materials Safety Administration, U.S. Department of Transportation, East Building, PHH-30, 1200 New Jersey Avenue Southeast, Washington, DC 20590-0001, (202) 366-4535.

SUPPLEMENTARY INFORMATION:

Key to “Reason for Delay”

1. Awaiting additional information from applicant

2. Extensive public comment under review

3. Application is technically complex and is of significant impact or precedent-setting and requires extensive analysis

4. Staff review delayed by other priority issues or volume of special permit applications

Meaning of Application Number Suffixes

N—New application

M—Modification request

R—Renewal Request

P—Party to Exemption Request

Issued in Washington, DC, on August 12, 2015.
Donald Burger,
Chief, General Approvals and Permits.

Application No. | Applicant | Reason for delay | Estimated date of completion
Modification to Special Permits
15744-M | Praxair Distribution, Inc., Danbury, CT | 4 | 09-30-2015
14779-M | Corrosion Companies Inc., Washougal, WA | 4 | 08-31-2015
15071-M | Orbital Sciences Corporation, Dulles, VA | 4 | 09-30-2015
New Special Permit Applications
15767-N | Union Pacific Railroad Company, Omaha, NE | 3 | 09-30-2015
16001-N | VELTEK ASSOCIATES, INC., Malvern, PA | 3 | 09-30-2015
16212-N | Entegris, Inc., Billerica, MA | 4 | 08-30-2015
16220-N | Americase, Waxahache, TX | 4 | 09-30-2015
16249-N | Optimized Energy Solutions, LLC, Durango, CO | 3 | 09-30-2015
16320-N | Digital Wave Corporation, Centennial, CO | 3 | 10-01-2015
16337-N | Volkswagen Group of America (VWGoA), Herndon, VA | 4 | 08-31-2015
16366-N | Department of Defense, Scott AFT, IL | 4 | 09-30-2015
16395-N | Chandler Instruments Company LLC, Broken Arrow, OK | 4 | 09-30-2015
16373-N | Stainless Tank & Equipment Co., LLC, Beloit, WI | 4 | 09-30-2015
16356-N | United Launch Affiance, LLC, Centennial, CO | 4 | 09-30-2015
16371-N | Volkswagen Group of America (VWGoA), Herndon, VA | 4 | 09-30-2015
Party to Special Permits Application
16279-P | Twin Enterprise International LLC, Chandler, AZ | 4 | 09-30-2015
12412-P | TerraChem Inc., Fellows, CA | 4 | 09-30-2015
Renewal Special Permits Application
11860-R | GATX Corporation, Chicago, IL | 4 | 10-31-2015
8009-R | NK. Co., Ltd., Busan City, KR | 4 | 09-30-2015

[FR Doc. 2015-20480 Filed 8-21-15; 8:45 am]

BILLING CODE 4910-60-M